FEDERAL COMMUNICATIONS COMMISSION

47 CFR Part 73

[MB Docket No. 23-286; RM-11960; DA 23-749; FR ID 166837]

Television Broadcasting Services Winnemucca, Nevada

AGENCY: Federal Communications Commission.

ACTION: Proposed rule.

SUMMARY: The Commission has before it a petition for rulemaking filed by Gray Television Licensee, LLC (Petitioner), the permittee of unbuilt station KWNV(DT), channel 7, Winnemucca, Nevada. The Petitioner requests the substitution of channel 16 for channel 7 at Winnemucca in the Table of Allotments.

DATES: Comments must be filed on or before September 29, 2023 and reply comments on or before October 16, 2023.

ADDRESSES: Federal Communications Commission, Office of the Secretary, 45 L Street NE, Washington, DC 20554. In addition to filing comments with the FCC, interested parties should serve counsel for the Petitioner as follows: Joan Stewart, Esq., Wiley Rein LLP, 2050 M Street NW, Washington, DC 20036.

FOR FURTHER INFORMATION CONTACT: Joyce Bernstein, Media Bureau, at (202) 418-1647; or Joyce Bernstein, Media Bureau, at Joyce.Bernstein@fcc.gov.

SUPPLEMENTARY INFORMATION: In support, the Petitioner states its proposed channel substitution would serve the public interest by allowing Gray to build out this new station to avoid well-documented issues with indoor digital VHF reception since the 2009 digital transition. Petitioner states that the Commission has recognized the deleterious effects manmade noise has on the reception of VHF signals, finding that the propagation characteristics of these channels allow undesired signals and noise to be receivable at relatively farther distances, nearby electrical devices tend to emit noise in this band that can cause interference, and reception of VHF signals require physically larger antennas, relative to UHF channels. Additionally, the Commission has observed the large variability in the performance (especially intrinsic gain) of indoor antennas available to consumers, with most antennas receiving fairly well at UHF and the substantial majority not so well to very poor at high-VHF.

This is a synopsis of the Commission's Notice of Proposed Rulemaking, MB Docket No. 23-286; RM-11960; DA 23-749, adopted August 23, 2023, and released August 23, 2023. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Nevada, revise the entry for Winnemucca to read as follows:

§ 73.622 Digital television table of allotments.

* * * * *

(j) * * *

Community | Channel No.
* * * * *
Nevada
* * * * *
Winnemucca | 16
* * * * *

[FR Doc. 2023-18659 Filed 8-29-23; 8:45 am]

BILLING CODE 6712-01-P